DEPARTMENT OF COMMERCE

Bureau of the Census

[Docket Number 070913515-7516-01]

Alaska Native Areas (ANAs) for the 2010 Census—Proposed Criteria and Guidelines

AGENCY: Bureau of the Census, Commerce.

ACTION: Notice of proposed program revisions and request for comments.

SUMMARY: The Bureau of the Census (Census Bureau) is requesting comment on proposed criteria and guidelines for Alaska Native Areas (ANAs) for the 2010 Census. Criteria are those rules and conditions that must be met when defining a geographic entity; guidelines are procedures and measures suggested by the Census Bureau to enhance the utility of statistical geographic areas for presentation and analysis of statistical data. ANAs are geographic entities within the State of Alaska defined for the collection, tabulation, and presentation of decennial census data and will be used for the 2010 Census. ANAs also will be used to tabulate and present period estimates from the American Community Survey (ACS) after 2010 and potentially other Census Bureau surveys. ANAs consist of two types of unique geographic entities: Alaska Native Regional Corporations (ANRCs) and Alaska Native village statistical areas (ANVSAs) ¹. At this time, the Census Bureau does not propose any changes to the process for naming and delineating boundaries of ANRCs as used in Census 2000. The Census Bureau proposes to revise the criteria and guidelines for eligibility, location, delineation, and naming of ANVSAs to ensure more consistent and comparable ANVSAs and more meaningful, relevant, and reliable statistical data for Alaska Natives and their ANAs. This Notice also contains definitions of key terms used in the ANVSA criteria and guidelines for the 2010 Census.

¹ For Census Bureau purposes, the Annette Island Reserve in Alaska is considered an American Indian area (AIA), more specifically an American Indian reservation (AIR), not an ANA.

The Census Bureau will publish a separate notice in the Federal Register that proposes criteria and guidelines for American Indian Areas (AIAs) for the 2010 Census. After the final ANA criteria and guidelines for the 2010 Census are published in the Federal Register, the Census Bureau will offer designated tribal governments or associations an opportunity through the Tribal Statistical Areas Program (TSAP) to review and, if necessary, suggest updates to the boundaries and names of their ANAs.

DATES: Written comments must be submitted on or before June 16, 2008.

ADDRESSES: Please direct all written comments on this proposed program to the Director, U.S. Census Bureau, Room 8H001, Mail Stop 0100, Washington, DC 20233-0001.

FOR FURTHER INFORMATION CONTACT: Requests for additional information on these proposed program criteria and guidelines should be directed to Mr. Michael Ratcliffe, Chief, Geographic Standards and Criteria Branch, Geography Division, U.S. Census Bureau, via e-mail at geo.tsap.list@census.gov or telephone at 301-763-3056.

SUPPLEMENTARY INFORMATION: Pursuant to Title 13 of the United States Code (U.S.C.), section 141(a) (2000), the Secretary of Commerce, as delegated to the Census Bureau, undertakes the decennial census every ten years “in such form and content as he may determine.” This language gives wide discretion to the Census Bureau in taking the census.

The Census Bureau portrays the boundaries of both legal and statistical geographic entities for the purpose of collecting, tabulating, and presenting meaningful, relevant, and reliable statistical data from the decennial census, the ACS, and potentially other censuses and surveys. The Census Bureau attempts to develop objective criteria and guidelines to establish geographic entities that meet this purpose.

The Census Bureau is committed to delineating geographic entity boundaries in partnership with tribal, state, and local officials using criteria and guidelines developed in an open process. It is the responsibility of the Census Bureau to ensure that geographic entity criteria and guidelines achieve the goal of providing meaningful, relevant, and reliable statistical data. While aware that there are nonstatistical uses of ANAs and the data tabulated for them, the Census Bureau will not modify ANA boundaries or attributes specifically to meet the requirements of any of these nonstatistical program uses, including any attempt to meet the specific program requirements of other government agencies. Further, changes made to a geographic entity to meet the requirements of a specific nonstatistical program may have detrimental effects on uses of the same geographic entity for other nonstatistical programs. In addition, the Census Bureau makes no attempt to specifically link the establishment of statistical geographic entities to federal, tribal, or state laws.

The development of the ANAs has been an evolutionary process in which the Census Bureau has worked with various data users to develop geographic entities that both aid in census enumeration and tabulation activities and are meaningful for Alaska Natives,² their governments, associations working with Alaska Natives, and the federal and state agencies administering tribal programs benefiting Alaska Natives.

² The term Alaska Native is used throughout this document, but refers to anyone who a) self-identifies as an American Indian and/or an Alaska Native alone or in combination with one or more other races, and b) resides in Alaska. If using race data from Census 2000 rather than some other data source, use data for “American Indian and Alaska Native alone or in combination with one or more races” to determine if an ANVSA meets the proposed delineation criteria and guidelines.

ANRCs are corporate entities organized to conduct both for-profit and non-profit affairs of Alaska Natives in accordance with the Alaska Native Claims Settlement Act (ANCSA) (as amended) (43 U.S.C. § 1601 et seq. (2000)). ANRCs are geographic entities with legally defined boundaries that subdivide all of Alaska into twelve regions, except for the area within the Annette Island Reserve (an AIR under the governmental authority of the Metlakatla Indian Community). A thirteenth non-geographic ANRC represents Alaska Natives who do not belong to one of the other twelve ANRCs; the Census Bureau does not tabulate or present data for this thirteenth ANRC. The twelve geographic ANRCs are what the Census Bureau terms “legal geographic entities.”

ANVSAs are statistical geographic entities representing the residences, permanent and/or seasonal, for Alaska Natives who are members of or receive governmental services from the defining ANV, and that are located within the region and vicinity of the ANV's historic and/or traditional location. ANVSAs are intended to represent the relatively densely settled portion of each ANV and should include only an area where Alaska Natives, especially members of the defining ANV, represent a substantial proportion of the population during at least one season of the year. ANVSAs also should not contain large areas that are primarily unpopulated or that do not include concentrations of Alaska Natives, especially members of the defining ANV. For the 2010 Census, the Census Bureau proposes changes to the ANVSA criteria and guidelines. These proposed changes are discussed more fully below.

I. History of Alaska Native Areas in the Decennial Census

Prior to the 1980 Census, the Census Bureau had no program specifically designed to recognize or tabulate data for ANAs. Data were published for most of the ANVs as either incorporated places or “unincorporated places” (referred to as census designated places (CDPs) in later censuses). Congress used data tabulated from the 1970 Census for these places, in conjunction with other information, to determine if they qualified as a “Native village” or a “Native group” in accordance with the ANCSA.

Upon enactment of the ANCSA, the Census Bureau began to report data specifically for ANAs beginning with the 1980 Census. The types of ANAs included in the 1980 Census were based on recommendations of an ad hoc interagency committee established by Office of Management and Budget (OMB) to examine how the federal government could provide improved data for Alaska Natives. In addition to input from OMB, the Census Bureau also consulted directly with Alaska Native tribal governments and associations, as well as Alaska State officials.

The Census Bureau used approximate boundaries for the ANRCs to tabulate data from the 1980 Census. Data for ANRCs were not published as part of the standard decennial census tabulations, but were included in a supplementary report. In sparsely populated areas, the ANRC boundaries were generalized to follow visible features and the boundaries of other census geographic entities.

For the 1980 Census, the Census Bureau worked with Alaska State officials to identify the names and locations of ANVs recognized in accordance with the ANCSA, and to delineate their boundaries. The boundaries of most ANVs coincided with the boundaries of other census geographic entities, in particular incorporated places and CDPs. In the few remaining ANVs whose boundaries did not coincide with incorporated place or CDP boundaries, the Census Bureau delineated boundaries that corresponded to one or more enumeration districts (similar to the block groups of later censuses). For the 1980 Census, the Census Bureau identified 209 ANVs.

After reviewing these data from the 1980 Census, the Census Bureau discovered that the territory encompassing housing units and population associated with an ANV did not necessarily correspond with the territory of an incorporated place or CDP of the same name. In addition, ANV and ANRC officials commented that the ANV boundaries for the 1980 Census were not their historical or traditional boundaries. The ANV boundaries also did not represent the land withdrawals, selections, or conveyances for the Alaska Native Village Corporations (ANVCs) made in accordance with the ANCSA or the lands historically or traditionally used for subsistence activities, including hunting and fishing. In response to these concerns and to emphasize that these points were all valid, the Census Bureau changed the term for these statistical geographic entities from ANVs to ANVSAs to indicate that while they still were based on the historical or traditional location of the ANV, they did not necessarily represent the ANV's historical or traditional boundary.

To improve the accuracy of ANRC boundaries for the 1990 Census, the Census Bureau transferred the ANRC boundaries from a source map provided by the U.S. Bureau of Land Management (BLM) onto a series of U.S. Geological Survey (USGS) 1:250,000-scale topographic maps, and digitized from there into their geographic database. The Census Bureau implemented a review process, which included the participation of each ANRC, to verify that the ANRC regional boundary was updated correctly. At the request of ANRCs, the Census Bureau worked directly with the ANRC's non-profit associations, whose purpose is to conduct the sociocultural outreach and support for members and other Alaska Natives within their region, in reviewing each regional boundary.

ANV government officials and ANRC non-profit association officials were encouraged to delineate ANVSA boundaries for the 1990 Census to facilitate enumeration of Alaska Natives, especially in remote Alaska. To meet the need for suitable boundaries for use in collecting, tabulating, and presenting data for ANV housing and population by aiding in the correct allocation of residences and thus population, ANVSA boundaries were required to follow physical features that would likely be visible to census enumerators, such as roads, trails, shorelines, rivers, streams, and ridgelines, or locally known boundaries of other legal geographic entities, such as boroughs,³ ANRCs, etc. For the 1990 Census, the Census Bureau identified 217 ANVSAs.

³ For Census Bureau purposes, boroughs in Alaska are the equivalent of counties in other states. For purposes of this notice, the term borough includes the legal designation in Alaska of “cities and boroughs” and “municipalities”, as well as “census areas”. Census areas are comparable to and the equivalent to boroughs for collecting, tabulating, and presenting Census Bureau data. They were created cooperatively by the State of Alaska and the Census Bureau to subdivide the large portion of Alaska not within an organized borough into geographic entities more comparable with the organized boroughs.

There were no changes to the types of ANAs identified for Census 2000. Similar to the 1990 Census, ANRC boundaries were reviewed by officials of the ANRC non-profit associations. A few small boundary corrections were made for some of the ANRCs. The new development seen in the Census 2000 was the introduction of tribal designated statistical areas (TDSAs) in Alaska. TDSAs had existed in some of the forty-eight conterminous states for the 1990 Census, but they had purposely been excluded from Alaska because ANVSAs were thought to cover all the ANVs in Alaska. Some data users stated that there was a difference between those ANVs that participated in the ANCSA and those that did not, but were recognized by the U.S. Bureau of Indian Affairs (BIA) as tribes and eligible to receive services from the BIA. In an attempt to remedy this, the Census Bureau introduced TDSAs in Alaska. For Census 2000, the Census Bureau identified 205 ANVSAs and 2 TDSAs in Alaska. Fewer ANVSAs were delineated for Census 2000 primarily because some of the ANVs identified in previous censuses were not recognized in accordance with the ANCSA or recognized by the BIA.

II. Proposed Alaska Native Areas for the 2010 Census

A. Alaska Native Regional Corporations (ANRCs)

The Census Bureau is not proposing any changes to the process for delineating the ANRC boundaries for the 2010 Census. The boundaries used by the Census Bureau for the ANRCs represent their regional boundaries established in accordance with the ANCSA. These boundaries do not take into consideration land withdrawals, selections, or conveyances under the ANCSA, nor any form of land ownership. The boundaries for the ANRCs will be included in the materials for the Boundary and Annexation Survey (BAS). Each ANRC's boundary will be reviewed, especially in relation to the boundaries of the Public Land Survey System (PLSS) townships and sections, to confirm that it is the correct legal boundary for that region as developed under the ANCSA. Each ANRC will also be reviewed to determine if the correct ANVSAs are depicted within its regional boundary. At the request of the ANRCs, the Census Bureau will continue to work with representatives of the twelve ANRC non-profit associations to review their regional boundaries and to ensure that the name for each region continues to closely match the name of the for-profit ANRC for that region (see Table 1).

Table 1.—ANRC For-Profit Corporations and Non-Profit Associations
ANRC name | For-Profit Alaska Native Regional Corporation | Non-Profit Alaska Native Regional Association
1. Ahtna | Ahtna, Incorporated | Copper River Native Association.
2. Aleut | The Aleut Corporation | Aleutian-Pribilof Islands Association.
3. Arctic Slope | Arctic Slope Regional Corporation | Arctic Slope Native Association.
4. Bering Straits | Bering Straits Native Corporation | Kawerak, Incorporated.
5. Bristol Bay | Bristol Bay Native Corporation | Bristol Bay Native Association.
6. Calista | Calista Corporation | Association of Village Council Presidents.
7. Chugach | Chugach Alaska Corporation | Chugachmiut, Incorporated.
8. Cook Inlet | Cook Inlet Region, Incorporated | Cook Inlet Tribal Council.
9. Doyon | Doyon, Limited | Tanana Chiefs Conference.
10. Koniag | Koniag, Incorporated | Kodiak Area Native Association.
11. NANA | NANA Regional Corporation | Maniilaq Association.
12. Sealaska | Sealaska Corporation | Central Council of Tlingit and Haida Indian Tribes.

B. Alaska Native Village Statistical Areas (ANVSAs)

The goal for the 2010 Census is to improve the delineation of ANVSA boundaries to result in more consistent and comparable ANVSAs and more meaningful, relevant, and reliable statistical data for Alaska Natives and their ANVs. The majority of ANVSAs from Census 2000 meet this goal. No new types of ANAs are proposed for the 2010 Census.

ANVSAs are statistical geographic entities representing the residences, permanent and/or seasonal, for Alaska Natives who are members of or receiving governmental services from the defining ANV located within the region and vicinity of the ANV's historic and/or traditional location. ANVSAs are intended to represent the relatively densely settled portion of each ANV and should include only areas where Alaska Natives, especially members of the defining ANV, represent a significant proportion of the population during at least one season of the year. ANVSAs also should not contain large areas that are primarily unpopulated or do not include concentrations of Alaska Natives, especially members of the defining ANV.

The delineation of ANVSAs is not meant to necessarily depict land ownership, including any land withdrawals, selections, or conveyances for the ANVCs, nor to represent all of the area over which an ANV has any form of governmental authority or jurisdiction, nor to represent all of the traditional or historical areas associated with the ANV, including areas used for subsistence activities. Representation of ANVSA boundaries in Census Bureau products is solely for the purpose of data collection, tabulation, and presentation and does not convey or confer any rights to land ownership, governmental authority, or jurisdictional status.

Although ANVSAs represent relatively densely settled concentrations of Alaska Natives, and therefore are similar to places, there are some key differences. The two place-level geographic entities for which the Census Bureau publishes data are incorporated places (cities in Alaska) and census designated places (CDPs). Incorporated places are governmental entities sanctioned by the State of Alaska to perform general purpose functions and whose boundaries are defined without specifically considering ANV members or other Alaska Natives. CDPs are unincorporated places delineated by State and borough officials in Alaska, and are intended to encompass all people at a given location, including ANV members. Incorporated places and CDPs are mutually exclusive of each other because, by definition, a CDP represents a named, unincorporated area. Because ANVSAs are defined specifically to represent concentrations of Alaska Natives, they are not constrained by other place-level geographic entities; that is, ANVSAs may overlap incorporated places and CDPs. An ANVSA may be delineated to encompass only a part of an incorporated place and/or a CDP; it may encompass area within multiple incorporated places or CDPs; or it may cover an area that has neither incorporated places nor CDPs. In addition, ANVSAs are used in census data collection activities and are included in the specific American Indian/Alaska Native geographic hierarchy for tabulating and presenting data from the 2010 Census; incorporated places and CDPs do not appear in the American Indian/Alaska Native geographic hierarchy. Incorporated places and CDPs do not clearly identify geographic entities that are specific to Alaska Natives, and therefore data for incorporated places and CDPs likely will reflect the characteristics of both Alaska Native and non-Native populations.

ANVSAs will be used to tabulate and present data from both the 2010 Census and the ACS. Defining officials should take into consideration that ACS period estimates of demographic characteristics for geographic entities that are small in population size will be subject to higher variances than comparable estimates for geographic entities with larger populations. Thus, if an ANVSA contains only a small number of housing units occupied by Alaska Natives during at least one season of the year, then the quality, reliability, and availability of the sample data may vary from year to year. In addition, the Census Bureau's disclosure avoidance and data quality assurance methodologies may have the effect of restricting the availability and amount of data for geographic entities with small populations. On the other hand, if an ANVSA encompasses a large total population that is not representative of the ANV's membership or service population, then the data for the Alaska Native population may be subsumed, or “masked,” by the characteristics of the overall population. The more closely an ANVSA's boundary relates to the distribution of ANV members and Alaska Natives receiving governmental services from the ANV, and does not include large numbers of people and households not affiliated with the ANV, the more likely that data presented for the ANVSA will reflect the characteristics of the ANV population. Therefore, when delineating ANVSAs, it is important to strike an appropriate balance, avoiding a definition that is too small to obtain meaningful sample data, and one that is so large that data for the Alaska Native population are masked by the presence of a high percentage of non-Native households. The Census Bureau has taken these concerns into consideration when developing the criteria and guidelines proposed below.

Officials designated to delineate boundaries also should consider that tribal affiliation data, including ANV affiliation, as collected by the Census Bureau, generally are not released for geographic entities that are small in population size, including ANVSAs, due to data disclosure concerns. If an ANVSA is defined in accordance with the program criteria and guidelines, the ANVSA data may provide a surrogate for tribal affiliation data for a specific, small geographic area, while tribal affiliation data are available for larger geographic entities such as the whole State of Alaska.

Although eligible, an ANV may elect not to delineate an ANVSA if it will not provide meaningful, relevant, or reliable statistical data. For example, the data may not be meaningful, relevant, or reliable because the member population now resides in other places or has been completely subsumed by non-member and/or non-Native populations. However, these ANVs may still be able to receive meaningful, relevant, and reliable statistical data for their ANV membership at higher levels of census geography, especially through the characteristic of tribal affiliation, but a specific geographic solution to their data issues, like an ANVSA, may not be feasible.

1. Proposed ANVSA Criteria and Guidelines for the 2010 Census

The Census Bureau proposes the following criteria and guidelines for the 2010 Census. Criteria are those rules and conditions that must be met when defining a geographic entity; guidelines are procedures and measures suggested by the Census Bureau to enhance the utility of statistical geographic areas for presentation and analysis of statistical data.

a. Proposed ANVSA Eligibility Criteria

An ANV would be eligible to delineate an ANVSA for the 2010 Census if the ANV is:

i. Recognized by and eligible to receive services from the BIA, or

ii. Recognized in accordance with the ANCSA as either a Native village, or Native group.

BIA recognition (criterion i. above) is determined by inclusion of an ANV on the BIA's list of recognized tribes ⁴ or by addenda to the list as published by the BIA. ANCSA recognition (criterion ii. above) is determined by inclusion of an ANV on the BLM's list of ANCSA recognized Native villages and Native groups; the BLM's list of those ANVs recognized in accordance with the ANCSA is available from the BLM's Alaska State Office.

⁴ Published regularly in the Federal Register in accordance with the Federally Recognized Indian Tribe Act of 1994 (Pub. L. No. 103-454, 108 Stat. 4791 (1994); 25 U.S.C. 479a-1 (2000)). As of the publication of this Notice, the list was last published in the Federal Register on Thursday, March 22, 2007 (72 FR 13648-13652).

Table 2 provides a list of the 237 ANVs that meet these proposed criteria and guidelines and that would be eligible to delineate an ANVSA for the 2010 Census. Table 2 also lists the BIA recognized name for each ANV ⁵ and indicates whether each is a Native village or Native group in accordance with the ANCSA. Any new ANV recognized by the BIA or in accordance with the ANCSA as of January 1, 2010 (the reference date for geographic entity boundaries for the 2010 Census), also will be eligible to delineate an ANVSA.

⁵ From the Federal Register notice published Thursday, March 22, 2007 (72 FR 13648-13652).

The following three tribes in Alaska recognized by the BIA would not be eligible to be represented by ANVSAs because they are not ANVs, are large regional tribal associations, or have a legally defined American Indian reservation:

• Central Council of the Tlingit and Haida Indian Tribes

• Inupiat Community of the Arctic Slope

• Metlakatla Indian Community, Annette Island Reserve

All ANVs that were eligible to delineate TDSAs for Census 2000 would be eligible to delineate ANVSAs for the 2010 Census if the resulting ANVSA meets all the program's criteria. TDSAs would not be delineated in Alaska for the 2010 Census.

The Census Bureau will continue to work with representatives of the BIA-recognized ANV to delineate their ANVSA for the 2010 Census. If the ANV is not recognized by the BIA, or if the BIA-recognized ANV government does not respond to the Census Bureau's invitation to participate in the ANVSA program, the Census Bureau will work with the ANCSA-recognized ANVC or Alaska Native Group Corporation (ANGC), as applicable, to delineate their ANVSA. If neither replies to the Census Bureau, the Census Bureau will work with the ANRC non-profit associations in whose region the ANV is located to delineate the ANVSA. If none of the entities referenced above reply to the Census Bureau, time and resources permitting the Census Bureau may delineate an ANVSA for the ANV.

b. Proposed ANVSA Location Criteria

All eligible ANVs shall be located in areas of historical and traditional significance. These locations are referenced in:

• The BIA recognized name for an ANV—e.g., Native Village of Atka;

• The former BIA recognized name for an ANV—e.g., Iqurmuit Traditional Council (formerly the Native Village of Russian Mission); and/or

• The BLM ANCSA recognized name for a Native village or Native group—e.g., Buckland or Canyon Village.

The latitude and longitude coordinates listed in Table 2 represent the point location of each eligible ANV, as determined by the Census Bureau. Each point location has been verified using the ANRC boundaries, the USGS Geographic Names Information System (GNIS) point locations, USGS topographic maps, location information from previous censuses, BLM Core Townships, ANCSA 14(c) survey plats, location information from the State of Alaska, and Native allotment boundaries. The latitude and longitude coordinates listed for an ANV provide the starting point for delineation of that ANVSA. Each ANVSA must primarily include land immediately surrounding the corresponding point locations listed in Table 2 for each ANV, but may include additional territory according to the other final program criteria and guidelines. The point location information for each ANV included in Table 2 is used in the specific ANVSA delineation criteria and guidelines listed below.

c. Proposed ANVSA Delineation Criteria and Guidelines

The Census Bureau has received comments from data users, tribes, and ANV officials over the past twenty or more years regarding the purpose of American Indian/Alaska Native statistical geographic entities, including ANVSAs, and how they should be defined to facilitate tabulation and presentation of meaningful data. In response, the Census Bureau proposes the following criteria and guidelines to help ensure that ANVSAs delineated for the 2010 Census support their intended purpose, provide useful and meaningful data for the ANV they represent, and enhance the ability of data users to make more meaningful comparisons between ANVSAs. When finalized, the proposed criteria must be followed by all officials delineating an ANVSA for the 2010 Census. The guidelines are provided to assist delineating officials in defining an ANVSA.

Proposed ANVSA Delineation Criteria

i. ANVSAs delineated for the 2010 Census shall not overlap.

ii. An ANVSA shall not completely surround the location of another ANV as listed in Table 2.

iii. All portions of an ANVSA must be located within fifty miles of the ANV's point location listed in Table 2.

iv. An ANVSA shall not include more water area than land area. Large expanses of water area should be included only to maintain contiguity, to provide a generalized version of the shoreline, or if the water area is completely surrounded by land area included in the ANVSA.

v. An ANVSA's boundary shall follow visible, physical features, such as rivers, streams, shorelines, roads, trails, and ridgelines. Officials delineating ANVSAs may use nonvisible lines as an ANVSA boundary only if acceptable boundary features are not available. For example, an ANVSA boundary may follow the nonvisible, legally defined boundaries of ANRCs, boroughs, or cities.

Proposed ANVSA Delineation Guidelines

The following delineation guidelines are suggested good practices to improve the utility of ANVSAs for collecting, tabulating, presenting, and analyzing statistical data for Alaska Native populations. These are not requirements, but rather are suggestions for consideration when delineating ANVSA boundaries.

An ANVSA should not extend beyond the regional boundary of the ANRC in which the ANV is located (see Table 2). This helps avoid confusion regarding the relationship between ANRCs, ANVs, and ANVSAs, and helps orient data users working with data for both ANRCs and ANVSAs.

An ANVSA should not exceed 325 square miles in area. Based on review of ANVSAs boundaries from previous censuses as well as other information about ANVs and ANVSAs, the Census Bureau suggests this size as sufficient to encompass the Alaska Native population and housing associated with each respective ANVSA, but not so extensive that large amounts of non-Native population and housing are included.

Housing units occupied by Alaska Natives,⁶ even if seasonal, should constitute the majority of housing units within an ANVSA. In addition, the population within an ANVSA should be majority Alaska Native, and, of that population, the majority should be members of or population served by the delineating ANV. An ANVSA should avoid encompassing or including any portion of a military installation or a large portion of an urbanized area. These guidelines are suggested to help ensure that the data presented for an ANVSA are as meaningful as possible, and avoid including large amounts of non-Alaska Native population and housing units.

⁶ If using race data from Census 2000 rather than some other data source, use data for “American Indian and Alaska Native alone or in combination with one or more races” to determine whether an ANVSA meets the proposed delineation criteria.

An ANVSA also should not contain large areas without housing or population. Specifically, an ANVSA should have a housing unit density of at least three housing units per square mile. The Census Bureau suggests this threshold based on review of ANVSA boundaries from previous decades.

An ANVSA should be contiguous; that is, an ANVSA should form a single area with all territory located within a continuous boundary. This makes identification of the extent of the ANVSA easier for residents and data users, and also provides for a clearer representation of the ANVSA's boundaries on maps. An ANVSA, however, may be defined with multiple noncontiguous pieces if doing so helps avoid inclusion of population and housing not associated with the ANV.

d. Proposed ANVSA Naming Criteria

The name for an ANVSA must match the corresponding ANV name in Table 2. If an ANV wishes to use a name that deviates from the corresponding ANV name, the ANV must submit a brief statement describing the reason for the change. Changes to the name of an ANVSA will be considered only if submitted in writing and signed by the highest elected official (Chairperson, Chief, or President) of the ANV.

2. ANVSA Review Process

As with all of the Census Bureau's statistical geographic entities, the Census Bureau reserves the right to modify, create, or reject any boundary or attribute as needed to meet the final program criteria or to maintain geographic relationships before the tabulation geography is finalized for the 2010 Census.

The Census Bureau will accept an ANVSA only if it meets the final program criteria. Any decision to reject a particular ANVSA delineation will be conveyed to the delineating official in writing. The delineating official may redelineate the ANVSA and re-submit it to the Census Bureau for review.

Interested parties will be able to review and comment on delineated ANVSA boundaries and names. If a dispute between two or more parties occurs over the boundary delineated for a specific ANVSA, the Census Bureau encourages the respective parties to reach a mutually acceptable agreement that complies with the final program criteria and follows the final program guidelines. There may be instances in which a mutually acceptable boundary for an ANVSA cannot be delineated, or the mutually acceptable boundary does not follow the final program criteria and guidelines. In such instances, the Census Bureau shall give priority to the boundary submitted by the ANV delineating official, in recognition of the government-to-government relationship with the ANV, provided that the delineated ANVSA meets the final program criteria. If a mutually acceptable ANVSA is not delineated in accordance with final program criteria by the program's deadline, the Census Bureau may, independently delineate an ANVSA.

III. Definitions of Key Terms and Acronyms

Alaska Native—For purposes of this program, Alaska Native refers to anyone who self-identifies as an American Indian and/or an Alaska Native and resides in Alaska.

Alaska Native area (ANA)—A geographic entity within the State of Alaska that is defined for the collection and tabulation of decennial census data for Alaska Natives. For the 2010 Census, ANAs include Alaska Native Regional Corporations (ANRCs) and Alaska Native Village statistical areas (ANVSAs).

Alaska Native Group Corporation (ANGC)—A corporation created in accordance with the ANCSA and organized under the laws of the State of Alaska as a for-profit or non-profit business to hold, invest, manage, and/or distribute lands, property, funds, and other rights and assets for and on behalf of a Native group.

Alaska Native Claims Settlement Act (ANCSA)—Legislation (Pub. L. No. 92-203, 85 Stat. 688 (1971); 43 U.S.C. 1602 et seq. (2000)) enacted in 1971 that recognized Native villages and Native groups, and established ANRCs and their regional boundaries.

Alaska Native Regional Corporation (ANRC)—A legal geographic entity established under the ANCSA as a “Regional Corporation” to conduct both the for-profit and non-profit affairs of Alaska Natives within a defined region of Alaska. Twelve ANRCs cover the entire State of Alaska except for the area within the Annette Island Reserve (an AIR under the governmental authority of the Metlakatla Indian Community).

Alaska Native Urban Corporation (ANUC)—A corporation created in accordance with the ANCSA and organized under the laws of the State of Alaska as a for-profit or non-profit business to hold, invest, manage, and/or distribute lands, property, funds, and other rights and assets for and on behalf of one of the four Alaska Native urban communities recognized under the ANCSA: Juneau, Kenai, Kodiak, and Sitka.

Alaska Native village (ANV)—A local governmental unit in Alaska that constitutes an association, band, clan, community, group, tribe, or village recognized by and eligible to receive services from the BIA and/or in accordance with the ANCSA as a Native village or Native group.

Alaska Native Village Corporation (ANVC)—A corporation created in accordance with the ANCSA and organized under the laws of the State of Alaska as a for-profit or non-profit business to hold, invest, manage, and/or distribute lands, property, funds, and assets for or on behalf of a Native village.

Alaska Native village statistical area (ANVSA)—A statistical geographic entity that represents the residences, permanent and/or seasonal, for Alaska Natives who are members of or receiving governmental services from the defining ANV that are located within the region and vicinity of the ANV's historic and/or traditional location. ANVSAs are intended to represent the relatively densely settled portion of each ANV and should include only an area where Alaska Natives, especially members of the defining ANV, represent a significant proportion of the population during at least one season of the year. ANVSAs also should not contain large areas that are primarily unpopulated or do not include concentrations of Alaska Natives, especially members of the defining ANV.

American Indian reservation (AIR)—A federally recognized American Indian land area with a boundary established by final treaty, statute, Executive Order, and/or court order and over which the tribal government of a federally recognized American Indian tribe has governmental authority. The AIR in Alaska is referred to as a reserve (Annette Island Reserve).

ANCSA 14(c) Survey Plat—A map issued by the BLM that depicts the surveyed boundaries for each Native village and its ANVC in accordance with the process set out in Section 14(c) of the ANCSA (See 43 U.S.C. 1613(c) (2000)). Digital versions of the completed plats are available online at http://ftp.dcbd.dced.state.ak.us/14cPlats/14c-Plats.htm.

BLM Core Township—A PLSS township designated in accordance with the ANCSA, 43 U.S.C. 1641(b) (2000), in which all or part of a Native village was determined to be located.

Borough—A legal geographic entity within the State of Alaska. For purposes of this program, the Census Bureau treats boroughs as equivalent to a county in other states for data collection, tabulation, and presentation purposes. In addition, when used generically, this term also includes “cities and boroughs,” “municipalities,” and “census areas” in Alaska.

Boundary and Annexation Survey (BAS)—A Census Bureau survey of legal geographic entities. In Alaska, BAS includes boroughs, boroughs and cities, municipalities, cities, ANRCs, and federally recognized American Indian reservations. Its purpose is to determine, solely for data collection and tabulation by the Census Bureau, the complete and current inventory and the correct names, legal descriptions, official status, and official boundaries of the legal geographic entities with primary governmental authority over certain lands within the United States as of January 1 of the survey year. The BAS also collects specific information to document the legal actions that established a boundary or imposed a boundary change.

Bureau of Indian Affairs (BIA)—The primary agency of the federal government, located within the Department of the Interior, charged with the trust responsibility between the federal government and federally recognized American Indian and Alaska Native tribal governments and communities, including BIA recognized ANVs.

Census area—A statistical geographic entity that serves as the equivalent of a borough in Alaska and that is delineated cooperatively by the State of Alaska and the Census Bureau solely for the purposes of subdividing that portion of Alaska that is not within an organized borough to allow more efficient census data collection and more useful census data tabulations.

Census designated place (CDP)—A statistical geographic entity with a concentration of population, housing, and commercial structures that is clearly identifiable by a single name, but is not within an incorporated place (i.e., a city in Alaska). CDPs are intended to be the statistical counterparts of incorporated places for distinct unincorporated communities.

City—A legal designation for incorporated places.

Contiguous—A description of a geographic entity having an uninterrupted outer boundary such that it forms a single, connected piece of territory. Noncontiguous areas form separate, disconnected pieces.

Geographic Names Information System (GNIS)—The GNIS is the federal standard for geographic nomenclature. The USGS developed the GNIS for the U.S. Board on Geographic Names as the official repository of domestic geographic names data; the official vehicle for geographic names use by all departments of the federal government; and the source for applying geographic names to federal electronic and printed products. The GNIS is available online at http://geonames.usgs.gov/domestic/index.html.

Incorporated place—A governmental unit, incorporated under state law as a city, town (except in New England, New York, and Wisconsin), borough (except in Alaska and New York), or village, to provide governmental services for a concentration of people within a legally defined boundary.

Legal geographic entity—A geographically defined governmental, administrative, or corporate entity whose origin, boundary, name, and description result from charters, laws, treaties, or other governmental action. Examples are the United States, states and statistically equivalent entities, counties and statistically equivalent entities, minor civil divisions, incorporated places, congressional districts, American Indian reservations and off-reservation trust lands, school districts, and ANRCs. The legal geographic entities that will be recognized for the 2010 Census are those in existence on January 1, 2010.

Native allotment—Land in Alaska allotted to Alaska Native adults primarily in accordance with the Native Allotment Act of 1906 (Ch. 2469, 34 Stat. 197 (1906)). A Native allotment can be up to 160 acres in area (.25 of a square mile), and its title is held in restricted fee status (see “Restricted fee land”). Native allotments were provided from the public lands at large in Alaska and required each Alaska Native applicant to demonstrate use and occupancy of the allotment for at least a five-year period. Although many Native allotments are still used for subsistent activities, most do not include housing units.

Native group (NG)—Any tribe, band, clan, group, community, village, or village association of Alaska Natives designated by the Secretary of the Interior composed of less than twenty-five, but more than three, Alaska Natives, who also comprised a majority of the residents of a locality at the time of the 1970 Census.

Native village (NV)—Any tribe, band, clan, group, community, village, or village association of Alaska Natives listed in Sections 11 and 16 of the ANCSA (See 43 U.S.C. 1610 and 1615 (2000)) or which the Secretary of the Interior determines was composed of twenty-five or more Alaska Natives and who also comprised a majority of the residents of a locality at the time of the 1970 Census.

Nonvisible feature—A map feature that is not visible such as a city, borough, or ANRC boundary through space, a property line, or line-of-sight extension of a road.

Pub. L.—Public Law

Public Land Survey System (PLSS)—A rectangular system of surveys used to subdivide and describe land in the United States. The PLSS typically divides land into six-mile-square townships. These townships are subdivided into 36 one-mile-square sections. Sections can be further subdivided into quarter sections, quarter-quarter sections, or irregular government lots. The PLSS consists of a series of separate surveys. Most PLSS surveys begin at an initial point, and townships are surveyed north, south, east, and west from that point. The north-south line that runs through the initial point is a true meridian and is called the Principal Meridian. There are five Principal Meridians in Alaska—Copper River, Fairbanks, Kateel, Seward, and Umiat—that should be used when describing a particular township or section. For more information on the PLSS see http://nationalatlas.gov/articles/boundaries/a_plss.html.

Regional Corporation—See Alaska Native Regional Corporation (ANRC)

Restricted fee land—A land area for which an individual American Indian or a tribe holds fee simple title subject to limitations or restrictions against alienation or encumbrances as set forth in the title and/or by operation of law. Restricted fee lands may be located on or off a federally recognized reservation. Native allotments in Alaska are one type of restricted fee land. The Census Bureau does not identify restricted fee lands as a specific geographic category.

Section—A PLSS region approximately one mile square that is a division of a PLSS township.

Statistical Area—See statistical Geographic Entity

Statistical geographic entity—A geographic entity specifically defined for the collection and/or tabulation of statistical data from the Census Bureau. Statistical entities are not established by law and their designation by the Census Bureau neither conveys nor confers legal ownership, entitlement, jurisdiction, or governmental authority. Tribal statistical geographic entities, also called statistical areas, include ANVSAs and TDSAs, among others.

Township—A PLSS region approximately six miles square that contains thirty-six approximately one mile square PLSS sections.

Tribal designated statistical area (TDSA)—A statistical geographic entity identified and delineated for the Census Bureau by a federally recognized American Indian tribe that does not currently have a reservation and/or off-reservation trust land. A TDSA is intended to be comparable to the AIRs within the same state or region, especially those for tribes that are of similar size. A TDSA encompasses a compact and contiguous area that contains a concentration of individuals who identify with the delineating federally recognized American Indian tribe and within which there is structured and organized tribal activity. Although two TDSAs were delineated within Alaska for Census 2000, TDSAs will not be delineated within Alaska for the 2010 Census. All ANVs eligible to delineate TDSAs within Alaska for Census 2000 are eligible to delineate an ANVSA within Alaska for the 2010 Census.

Tribal Statistical Areas Program (TSAP)—The Census Bureau's program for the 2010 Census, through which updates to American Indian and Alaska Native statistical geographic entities will be obtained.

Visible feature—A map feature that can be seen on the ground such as a road, railroad track, major above-ground transmission line or pipeline, river, stream, shoreline, fence, sharply defined mountain ridge, or cliff.

Nonstandard visible feature—A subset of visible features that may not be clearly defined on the ground (such as a ridge), may be seasonal (such as an intermittent stream), or may be relatively impermanent (such as a fence).

Executive Order 12866

This notice has been determined to be not significant under Executive Order 12866.

Paperwork Reduction Act

This program notice does not represent a collection of information subject to the requirements of the Paperwork Reduction Act, 44 U.S.C. Chapter 35 (2000).

Dated: March 11, 2008.
Steve H. Murdock,
Director, Bureau of the Census.

Table 2.—Eligible ANVs
ANV name | ANRC | ANCSA type ⁷ | BIA recognized name ⁸ | Longitude | Latitude
1. Afogn/ak | Koniag | NV | n/ative Village of Afogn/ak | −152.7652 | 58.0221
2. Akhiok | Koniag | NV | n/ative Village of Akhiok | −154.1703 | 56.9456
3. Akiachak | Calista | NV | Akiachak n/ative Community | −161.4276 | 60.9026
4. Akiak | Calista | NV | Akiak n/ative Community | −161.2222 | 60.9119
5. Akutan | Aleut | NV | n/ative Village of Akutan | −165.7809 | 54.1384
6. Alakanuk | Calista | NV | Village of Alakanuk | −164.6612 | 62.6797
7. Alatn/a | Doyon | NV | Alatn/a Village | −152.7563 | 66.5636
8. Alekn/agik | Bristol Bay | NV | n/ative Village of Alekn/agik | −158.6189 | 59.2789
9. Alexander Creek | Cook Inlet | NG | n/a | −150.5999 | 61.4218
10. Algaaciq | Calista | NV | Algaaciq n/ative Village | −163.1769 | 62.0534
11. Allakaket | Doyon | NV | Allakaket Village | −152.6506 | 66.5597
12. Ambler | n/an/a | NV | n/ative Village of Ambler | −157.8671 | 67.0874
13. An/aktuvuk Pass | Arctic Slope | NV | Village of Anaktuvuk Pass | −151.7286 | 68.1480
14. Andreafsky | Calista | NV | Yupiit of Andreafski | −163.1934 | 62.0476
15. Angoon | Sealaska | NV | Angoon Community Association | −134.5824 | 57.4975
16. Aniak | Calista | NV | Village of Aniak | −159.5487 | 61.5750
17. Anvik | Doyon | NV | Anvik Village | −160.1965 | 62.6515
18. Arctic Village | Doyon | NV | Native Village of Venetie Tribal Government (Arctic Village) | −145.5283 | 68.1243
19. Asa'carsarmiut | Calista | NV | Asa'carsarmiut Tribe | −163.7279 | 62.0906
20. Atka | Aleut | NV | Native Village of Atka | −174.2095 | 52.2106
21. Atmautluak | Calista | NV | Village of Atmautluak | −162.2795 | 60.8591
22. Atqasuk | Arctic Slope | NV | Atqasuk Village | −157.4135 | 70.4736
23. Ayakulik | Koniag | NV | n/a | −154.5072 | 57.1949
24. Barrow | Arctic Slope | NV | Native Village of Barrow Inupiat Traditional Government | −156.7811 | 71.2909
25. Beaver | Doyon | NV | Beaver Village | −147.4026 | 66.3628
26. Belkofski | Aleut | NV | Native Village of Belkofski | −162.0423 | 55.0865
27. Bill Moore's | Calista | NV | Village of Bill Moore's Slough | −163.7767 | 62.9449
28. Birch Creek | Doyon | NV | Birch Creek Tribe | −145.8190 | 66.2590
29. Brevig Mission | Bering Straits | NV | Native Village of Brevig Mission | −166.4885 | 65.3350
30. Buckland | NANA | NV | Native Village of Buckland | −161.1246 | 65.9767
31. Cantwell | Ahtna | NV | Native Village of Cantwell | −148.9105 | 63.3921
32. Canyon Village | Doyon | NG | n/a | −142.0878 | 67.1548
33. Caswell | Cook Inlet | NG | n/a | −149.9479 | 62.0047
34. Chalkyitsik | Doyon | NV | Chalkyitsik Village | −143.7286 | 66.6534
35. Cheesh-Na | Ahtna | NV | Cheesh-Na Tribe | −144.6542 | 62.5718
36. Chefornak | Calista | NV | Village of Chefornak | −164.2723 | 60.1538
37. Chenega | Chugach | NV | Native Village of Chanega | −148.0124 | 60.0664
38. Chevak | Calista | NV | Chevak Native Village | −165.5807 | 61.5285
39. Chickaloon | Cook Inlet | NV | Chickaloon Native Village | −148.4916 | 61.8002
40. Chignik Bay | Bristol Bay | NV | Chignik Bay Tribal Council | −158.4129 | 56.3037
41. Chignik Lagoon | Bristol Bay | NV | Native Village of Chignik Lagoon | −158.5302 | 56.3084
42. Chignik Lake | Bristol Bay | NV | Chignik Lake Village | −158.7522 | 56.2496
43. Chilkat | Sealaska | NV | Chilkat Indian Village | −135.8964 | 59.3997
44. Chilkoot | Sealaska | n/a | Chilkoot Indian Association | −135.4460 | 59.2240
45. Chinik | Bering Straits | NV | Chinik Eskimo Community | −163.0287 | 64.5443
46. Chitina | Ahtna | NV | Native Village of Chitina | −144.4412 | 61.5240
47. Chuathbaluk | Calista | NV | Native Village of Chuathbaluk | −159.2481 | 61.5774
48. Chulloonawick | Calista | NV | Chulloonawick Native Village | −164.1628 | 62.9504
49. Circle | Doyon | NV | Circle Native Community | −144.0723 | 65.8261
50. Clark's Point | Bristol Bay | NV | Village of Clarks Point | −158.5471 | 58.8330
51. Council | Bering Straits | NV | Native Village of Council | −163.6764 | 64.8950
52. Craig | Sealaska | NV | Craig Community Association | −133.1253 | 55.4870
53. Crooked Creek | Calista | NV | Village of Crooked Creek | −158.1124 | 61.8720
54. Curyung ⁹ | Bristol Bay | NV | Curyung Tribal Council | −158.4670 | 59.0487
55. Deering | NANA | NV | Native Village of Deering | −162.7283 | 66.0780
56. Dot Lake | Doyon | NV | Village of Dot Lake | −144.0354 | 63.6503
57. Douglas | Sealaska | UC | Douglas Indian Association | −134.3992 | 58.2781
58. Eagle | Doyon | NV | Native Village of Eagle | −141.1113 | 64.7808
59. Eek | Calista | NV | Native Village of Eek | −162.0247 | 60.2170
60. Egegik | Bristol Bay | NV | Egegik Village | −157.3536 | 58.2173
61. Eklutna | Cook Inlet | NV | Eklutna Native Village | −149.3613 | 61.4606
62. Ekuk ⁹ | Bristol Bay | NV | Native Village of Ekuk | −158.5534 | 58.8035
63. Ekwok | Bristol Bay | NV | Ekwok Village | −157.4866 | 59.3519
64. Elim | Bering Straits | NV | Native Village of Elim | −162.2576 | 64.6165
65. Emmonak | Calista | NV | Emmonak Village | −164.5454 | 62.7787
66. Evansville | Doyon | NV | Evansville Village | −151.5100 | 66.9272
67. Eyak | Chugach | NV | Native Village of Eyak | −145.6351 | 60.5263
68. False Pass | Aleut | NV | Native Village of False Pass | −163.4121 | 54.8520
69. Fort Yukon | Doyon | NV | Native Village of Fort Yukon | −145.2497 | 66.5627
70. Gakona | Ahtna | NV | Native Village of Gakona | −145.3119 | 62.3004
71. Galena | Doyon | NV | Galena Village | −156.8852 | 64.7427
72. Gambell | Bering Straits | NV | Native Village of Gambell | −171.7022 | 63.7621
73. Georgetown | Calista | NV | Native Village of Georgetown | −157.6727 | 61.8979
74. Gold Creek | Cook Inlet | NG | n/a | −149.6939 | 62.7567
75. Goodnews Bay | Calista | NV | Native Village of Goodnews Bay | −161.5864 | 59.1234
76. Grayling | Doyon | NV | Organized Village of Grayling | −160.0689 | 62.9061
77. Gulkana | Ahtna | NV | Gulkana Village | −145.3656 | 62.2634
78. Hamilton | Calista | NV | Native Village of Hamilton | −163.8598 | 62.8896
79. Healy Lake | Doyon | NV | Healy Lake Village | −144.6998 | 63.9872
80. Holy Cross | Doyon | NV | Holy Cross Village | −159.7738 | 62.1985
81. Hoonah | Sealaska | NV | Hoonah Indian Association | −135.4346 | 58.1100
82. Hooper Bay | Calista | NV | Native Village of Hooper Bay | −166.0978 | 61.5294
83. Hughes | Doyon | NV | Hughes Village | −154.2557 | 66.0455
84. Huslia | Doyon | NV | Huslia Village | −156.3892 | 65.7026
85. Hydaburg | Sealaska | NV | Hydaburg Cooperative Association | −132.8201 | 55.2067
86. Igiugig | Bristol Bay | NV | Igiugig Village | −155.8927 | 59.3266
87. Iliamna | Bristol Bay | NV | Village of Iliamna | −154.9111 | 59.7568
88. Inalik | Bering Straits | NV | Native Village of Diomede | −168.9370 | 65.7547
89. Iqurmuit | Calista | NV | Iqurmuit Traditional Council | −161.3287 | 61.7854
90. Ivanof Bay | Bristol Bay | NV | Ivanoff Bay Village | −159.4836 | 55.9033
91. Kaguyak | Koniag | NV | Kaguyak Village | −153.7955 | 56.8689
92. Kake | Sealaska | NV | Organized Village of Kake | −133.9451 | 56.9775
93. Kaktovik | Arctic Slope | NV | Kaktovik Village | −143.6113 | 70.1324
94. Kalskag | Calista | NV | Village of Kalskag | −160.3215 | 61.5400
95. Kaltag | Doyon | NV | Village of Kaltag | −158.7302 | 64.3259
96. Kanatak | Koniag ¹⁰ | n/a | Native Village of Kanatak | −156.0432 | 57.5728
97. Karluk | Koniag | NV | Native Village of Karluk | −154.4393 | 57.5572
98. Kasaan | Sealaska | NV | Organized Village of Kasaan | −132.4017 | 55.5419
99. Kasigluk | Calista | NV | Kasigluk Traditional Elders Council | −162.5139 | 60.8873
100. Kenai | Cook Inlet | UC | Kenaitze Indian Tribe | −151.2614 | 60.5521
101. Ketchikan | Sealaska | n/a | Ketchikan Indian Corporation | −131.6445 | 55.3421
102. Kiana | NANA | NV | Native Village of Kiana | −160.4309 | 66.9717
103. King Cove | Aleut | NV | Agdaagux Tribe of King Cove | −162.3029 | 55.0629
104. King Salmon | Bristol Bay | n/a | King Salmon Tribe | −156.7312 | 58.7090
105. Kipnuk | Calista | NV | Native Village of Kipnuk | −164.0376 | 59.9343
106. Kivalina | NANA | NV | Native Village of Kivalina | −164.5386 | 67.7295
107. Klawock | Sealaska | NV | Klawock Cooperative Association | −133.0948 | 55.5526
108. Kluti Kaah | Ahtna | NV | Native Village of Kluti Kaah | −145.3297 | 61.9770
109. Knik | Cook Inlet | NV | Knik Tribe | −149.6822 | 61.4947
110. Knugank | Bristol Bay | NG | n/a | −158.7991 | 58.4225
111. Kobuk | NANA | NV | Native Village of Kobuk | −156.8888 | 66.9252
112. Kodiak | Koniag | UC | Sun'aq Tribe of Kodiak | −152.3885 | 57.8009
113. Kokhanok | Bristol Bay | NV | Kokhanok Village | −154.7682 | 59.4374
114. Kongiganak | Calista | NV | Native Village of Kongiganak | −162.8951 | 59.9533
115. Kotlik | Calista | NV | Village of Kotlik | −163.5500 | 63.0325
116. Kotzebue | NANA | NV | Native Village of Kotzebue | −162.5874 | 66.8988
117. Koyuk | Bering Straits | NV | Native Village of Koyuk | −161.1628 | 64.9312
118. Koyukuk | Doyon | NV | Koyukuk Native Village | −157.7031 | 64.8818
119. Kwethluk | Calista | NV | Organized Village of Kwethluk | −161.4381 | 60.8101
120. Kwigillingok | Calista | NV | Native Village of Kwigillingok | −163.1647 | 59.8694
121. Kwinhagak | Calista | NV | Native Village of Kwinhagak | −161.9055 | 59.7525
122. Lake Minchumina | Doyon | NG | n/a | −152.3122 | 63.8830
123. Larsen Bay | Koniag | NV | Native Village of Larsen Bay | −153.9874 | 57.5351
124. Lesnoi | Koniag | NV | Lesnoi Village | −152.3351 | 57.7779
125. Levelock | Bristol Bay | NV | Levelock Village | −156.8613 | 59.1117
126. Lime Village | Calista | NV | Lime Village | −155.4378 | 61.3540
127. Lower Kalskag | Calista | NV | Village of Lower Kalskag | −160.3642 | 61.5125
128. Manley Hot Springs | Doyon | NV | Manley Hot Springs Village | −150.6107 | 65.0088
129. Manokotak | Bristol Bay | NV | Manokotak Village | −158.9981 | 58.9724
130. Marshall | Calista | NV | Native Village of Marshall | −162.0878 | 61.8794
131. Mary's Igloo | Bering Straits | NV | Native Village of Mary's Igloo | −165.0678 | 65.1489
132. McGrath | Doyon | NV | McGrath Native Village | −155.5759 | 62.9488
133. Mekoryuk | Calista | NV | Native Village of Mekoryuk | −166.1943 | 60.3892
134. Mentasta | Ahtna | NV | Mentasta Traditional Council | −143.7700 | 62.9330
135. Minto | Doyon | NV | Native Village of Minto | −149.3497 | 65.1504
136. Montana Creek | Cook Inlet | NG | n/a | −150.0650 | 62.0686
137. Nagamut | Calista | NG | n/a | −157.6744 | 61.0194
138. Naknek | Bristol Bay | NV | Naknek Native Village | −156.9869 | 58.7330
139. Nanwalek | Chugach | NV | Native Village of Nanwalek | −151.9119 | 59.3521
140. Napaimute | Calista | NV | Native Village of Napaimute | −158.6739 | 61.5414
141. Napakiak | Calista | NV | Native Village of Napakiak | −161.9790 | 60.6906
142. Napaskiak | Calista | NV | Native Village of Napaskiak | −161.7634 | 60.7060
143. Nelson Lagoon | Aleut | NV | Native Village of Nelson Lagoon | −161.2070 | 56.0006
144. Nenana | Doyon | NV | Nenana Native Association | −149.0875 | 64.5610
145. New Koliganek | Bristol Bay | NV | New Koliganek Village Council | −157.2844 | 59.7286
146. New Stuyahok | Bristol Bay | NV | New Stuyahok Village | −157.3208 | 59.4518
147. Newhalen | Bristol Bay | NV | Newhalen Village | −154.8924 | 59.7238
148. Newtok | Calista | NV | Newtok Village | −164.6307 | 60.9377
149. Nightmute | Calista | NV | Native Village of Nightmute | −164.7216 | 60.4788
150. Nikolai | Doyon | NV | Nikolai Village | −154.3814 | 63.0128
151. Nikolski | Aleut | NV | Native Village of Nikolski | −168.8615 | 52.9401
152. Ninilchik | Cook Inlet | NV | Ninilchik Village | −151.6936 | 60.0300
153. Noatak | NANA | NV | Native Village of Noatak | −162.9676 | 67.5716
154. Nome | Bering Straits | NV | Nome Eskimo Community | −165.3940 | 64.4999
155. Nondalton | Bristol Bay | NV | Nondalton Village | −154.8564 | 59.9634
156. Noorvik | NANA | NV | Noorvik Native Community | −161.0440 | 66.8345
157. Northway | Doyon | NV | Northway Village | −141.9517 | 62.9822
158. Nuiqsut | Arctic Slope | NV | Native Village of Nuiqsut | −151.0000 | 70.2166
159. Nulato | Doyon | NV | Nulato Village | −158.1066 | 64.7246
160. Nunakauyarmiut | Calista | NV | Nunakauyarmiut Tribe | −165.1037 | 60.5338
161. Nunam Iqua | Calista | NV | Native Village of Nunam Iqua | −164.8525 | 62.5299
162. Nunapitchuk | Calista | NV | Native Village of Nunapitchuk | −162.4522 | 60.8968
163. Ohogamiut | Calista | NV | Village of Ohogamiut | −161.8648 | 61.5704
164. Old Harbor | Koniag | NV | Village of Old Harbor | −153.3031 | 57.2104
165. Orutsararmuit | Calista | NV | Orutsararmuit Native Village | −161.7730 | 60.7968
166. Oscarville | Calista | NV | Oscarville Traditional Village | −161.7758 | 60.7236
167. Ouzinkie | Koniag | NV | Native Village of Ouzinkie | −152.5002 | 57.9237
168. Paimiut | Calista | NV | Native Village of Paimiut | −165.8201 | 61.7030
169. Pauloff Harbor | Aleut | NV | Pauloff Harbor Village | −162.7071 | 54.4577
170. Pedro Bay | Bristol Bay | NV | Pedro Bay Village | −154.1484 | 59.7768
171. Perryville | Bristol Bay | NV | Native Village of Perryville | −159.1633 | 55.9140
172. Petersburg | Sealaska | n/a | Petersburg Indian Association | −132.9512 | 56.8113
173. Pilot Point | Bristol Bay | NV | Native Village of Pilot Point | −157.5753 | 57.5545
174. Pilot Station | Calista | NV | Pilot Station Traditional Village | −162.8825 | 61.9375
175. Pitkas Point | Calista | NV | Native Village of Pitka's Point | −163.2826 | 62.0345
176. Platinum | Calista | NV | Platinum Traditional Village | −161.8237 | 59.0095
177. Point Hope | Arctic Slope | NV | Native Village of Point Hope | −166.7693 | 68.3486
178. Point Lay | Arctic Slope | NV | Native Village of Point Lay | −163.0082 | 69.7427
179. Point Possession | Cook Inlet | NG | n/a | −150.4110 | 61.0308
180. Port Alsworth | Cook Inlet ¹¹ | NG | n/a | −154.3223 | 60.2016
181. Port Graham | Chugach | NV | Native Village of Port Graham | −151.8353 | 59.3481
182. Port Heiden | Bristol Bay | NV | Native Village of Port Heiden | −158.6250 | 56.9326
183. Port Lions | Koniag | NV | Native Village of Port Lions | −152.8894 | 57.8659
184. Portage Creek ⁹ | Bristol Bay | NV | Portage Creek Village | −157.7174 | 58.9073
185. Rampart | Doyon | NV | Rampart Village | −150.1453 | 65.5094
186. Red Devil | Calista | NV | Village of Red Devil | −157.3387 | 61.7834
187. Ruby | Doyon | NV | Native Village of Ruby | −155.4729 | 64.7371
188. Saint George | Aleut | NV | Pribilof Islands Aleut Communities of St. Paul and St. George Islands (Saint George Island) | −169.5519 | 56.6044
189. Saint Michael | Bering Straits | NV | Native Village of Saint Michael | −162.0384 | 63.4784
190. Saint Paul | Aleut | NV | Pribilof Islands Aleut Communities of St. Paul and St. George Islands (Saint Paul Island) | −170.2727 | 57.1274
191. Salamatof | Cook Inlet | NV | Village of Salamatoff | −151.3194 | 60.6154
192. Sand Point | Aleut | NV | Qagun Tayagungin Tribe of Sand Point Village | −160.4905 | 55.3458
193. Savoonga | Bering Straits | NV | Native Village of Savoonga | −170.4640 | 63.6959
194. Saxman | Sealaska | NV | Organized Village of Saxman | −131.6003 | 55.3221
195. Scammon Bay | Calista | NV | Native Village of Scammon Bay | −165.5818 | 61.8417
196. Selawik | NANA | NV | Native Village of Selawik | −160.0162 | 66.5984
197. Seldovia | Cook Inlet | NV | Seldovia Village Tribe | −151.7123 | 59.4390
198. Shageluk | Doyon | NV | Shageluk Native Village | −159.5227 | 62.6556
199. Shaktoolik | Bering Straits | NV | Native Village of Shaktoolik | −161.1845 | 64.3495
200. Shishmaref | Bering Straits | NV | Native Village of Shishmaref | −166.0666 | 66.2564
201. Shungnak | NANA | NV | Native Village of Shungnak | −157.1426 | 66.8873
202. Sitka | Sealaska | UC | Sitka Tribe of Alaska | −135.3426 | 57.0543
203. Skagway | Sealaska | n/a | Skagway Village | −135.3119 | 59.4583
204. Sleetmute | Calista | NV | Village of Sleetmute | −157.1689 | 61.6962
205. Solomon | Bering Straits | NV | Village of Solomon | −164.4488 | 64.5597
206. South Naknek | Bristol Bay | NV | South Naknek Village | −157.0026 | 58.7123
207. Stebbins | Bering Straits | NV | Stebbins Community Association | −162.2820 | 63.5208
208. Stevens Village | Doyon | NV | Native Village of Stevens | −149.1039 | 66.0055
209. Stony River | Calista | NV | Village of Stony River | −156.5898 | 61.7891
210. Takotna | Doyon | NV | Takotna Village | −156.0870 | 62.9723
211. Tanacross | Doyon | NV | Native Village of Tanacross | −143.3565 | 63.3762
212. Tanana | Doyon | NV | Native Village of Tanana | −152.0763 | 65.1716
213. Tatitlek | Chugach | NV | Native Village of Tatitlek | −146.6779 | 60.8664
214. Tazlina | Ahtna | NV | Native Village of Tazlina | −145.4284 | 62.0589
215. Telida | Doyon | NV | Telida Village | −153.2785 | 63.3840
216. Teller | Bering Straits | NV | Native Village of Teller | −166.3628 | 65.2613
217. Tetlin | Doyon | NV | Native Village of Tetlin | −142.5239 | 63.1351
218. Togiak | Bristol Bay | NV | Traditional Village of Togiak | −160.3764 | 59.0619
219. Tuluksak | Calista | NV | Tuluksak Native Community | −160.9630 | 61.1020
220. Tuntutuliak | Calista | NV | Native Village of Tuntutuliak | −162.6696 | 60.3424
221. Tununak | Calista | NV | Native Village of Tununak | −165.2588 | 60.5827
222. Twin Hills | Bristol Bay | NV | Twin Hills Village | −160.2836 | 59.0774
223. Tyonek | Cook Inlet | NV | Native Village of Tyonek | −151.1494 | 61.0716
224. Uganik | Koniag | NV | n/a | −153.4046 | 57.7565
225. Ugashik | Bristol Bay | NV | Ugashik Village | −157.3887 | 57.5027
226. Ukivok | Bering Straits | NV | King Island Native Community | −168.0718 | 64.9643
227. Umkumiute | Calista | NV | Umkumiute Native Village | −165.1989 | 60.4997
228. Unalakleet | Bering Straits | NV | Native Village of Unalakleet | −160.7914 | 63.8777
229. Unalaska | Aleut | NV | Qawalangin Tribe of Unalaska | −166.5337 | 53.8746
230. Unga | Aleut | NV | Native Village of Unga | −160.5050 | 55.1841
231. Uyak | Koniag | NV | n/a | −154.0078 | 57.6336
232. Venetie | Doyon | NV | Native Village of Venetie Tribal Government (Village of Venetie) | −146.4149 | 67.0178
233. Wainwright | Arctic Slope | NV | Village of Wainwright | −160.0202 | 70.6448
234. Wales | Bering Straits | NV | Native Village of Wales | −168.0960 | 65.6082
235. White Mountain | Bering Straits | NV | Native Village of White Mountain | −163.4042 | 64.6805
236. Wrangell | Sealaska | n/a | Wrangell Cooperative Association | −132.3791 | 56.4752
237. Yakutat | Sealaska | NV | Yakutat Tlingit Tribe | −139.7435 | 59.5543
⁷ In this column, “NV” means a “Native village”, “NG” means a “Native group”, “UC” means an “Urban Corporation”, and “n/a” means that the ANV is not recognized in accordance with the ANCSA.
⁸ The BIA recognized name for each ANV is taken from the Federal Register notice published Thursday, March 22, 2007 (72 FR 13648-13651). “n/a” in this column means that the ANV is not recognized by the BIA and is not listed in the BIA's Federal Register notice.
⁹ The ANVs Curyung, Ekuk, and Portage Creek are all represented by the same ANVC, Choggiung, Limited. Choggiung, Limited also represents the ANCSA 14(c) sites of Igushik and Lewis Point that should be considered when these three ANVs are delineating their ANVSAs.
¹⁰ The Kanatak ANV is currently located within the boundary of the Koniag ANRC in the Census Bureau's records, but they receive services from the Bristol Bay Native Association. If the ANRC boundaries and the ANV's point location are correct in the Census Bureau's records, the ANV will be eligible to delineate an ANVSA within the boundary of the Koniag ANRC for Census 2010.
¹¹ The Port Alsworth ANV is currently located within the boundary of the Cook Inlet ANRC in the Census Bureau's records, but they receive services from the Bristol Bay Native Association. If the ANRC boundaries and the ANV's point location are correct in the Census Bureau's records, the ANV will be eligible to delineate an ANVSA within the boundary of the Cook Inlet ANRC for Census 2010.

[FR Doc. E8-5282 Filed 3-14-08; 8:45 am]

BILLING CODE 3510-07-P